DEPARTMENT OF ENERGY

Federal Energy Regulatory Commission

Combined Notice of Filings #1

Take notice that the Commission received the following electric corporate filings:

Docket Numbers: EC16-60-000.

Applicants: Aspirity Energy Mid-States, LLC, Aspirity Energy Northeast, LLC.

Description: Supplement to January 13, 2016 Application of Aspirity Energy Northeast, LLC, et. al. for Authorization under Section 203 of the FPA and Request for Shortened Comment Period.

Filed Date: 3/4/16.

Accession Number: 20160304-5134.

Comments Due: 5 p.m. ET 3/14/16.

Take notice that the Commission received the following exempt wholesale generator filings:

Docket Numbers: EG16-68-000.

Applicants: Alta Windpower Development, LLC.

Description: Notice of Self-Certification of Exempt Wholesale Generator Status of Alta Windpower Development, LLC.

Filed Date: 3/8/16.

Accession Number: 20160308-5153.

Comments Due: 5 p.m. ET 3/29/16.

Take notice that the Commission received the following electric rate filings:

Docket Numbers: ER10-1942-013; ER10-2042-020; ER14-2931-003; ER10-1938-015; ER10-1934-014; ER10-1893-014; ER10-2985-018; ER10-3049-019; ER10-3051-019; ER10-1862-014; ER10-3260-005; ER13-1401-003.

Applicants: Calpine Energy Services, L.P., Calpine Construction Finance Company, L.P., Calpine Fore River Energy Center, LLC, Calpine Power America—CA, LLC, CES Marketing IX, LLC, CES Marketing X, LLC, Champion Energy Marketing LLC, Champion Energy Services, LLC, Granite Ridge Energy, LLC, Westbrook Energy Center, LLC, Champion Energy, LLC, Power Contract Financing, L.L.C.

Description: Notification of Change in Status of the Calpine New England MBR Sellers.

Filed Date: 3/7/16.

Accession Number: 20160307-5257.

Comments Due: 5 p.m. ET 3/28/16.

Docket Numbers: ER15-685-002.

Applicants: Midcontinent Independent System Operator, Inc.

Description: Compliance filing: 2016-03-07 ELMP Compliance Filing to be effective 3/1/2015.

Filed Date: 3/7/16.

Accession Number: 20160307-5259.

Comments Due: 5 p.m. ET 3/28/16.

Docket Numbers: ER15-878-001.

Applicants: Occidental Power Services, Inc.

Description: Compliance filing: Revision to Rate Schedule No. 1 to be effective 4/1/2015.

Filed Date: 3/8/16.

Accession Number: 20160308-5133.

Comments Due: 5 p.m. ET 3/29/16.

Docket Numbers: ER15-1451-002.

Applicants: California Independent System Operator Corporation.

Description: Compliance filing: 2016-03-07 Filing in Compliance with February 26, 2016 Letter Order to be effective 2/26/2016.

Filed Date: 3/7/16.

Accession Number: 20160307-5184.

Comments Due: 5 p.m. ET 3/28/16.

Docket Numbers: ER16-1098-000.

Applicants: Midcontinent Independent System Operator, Inc.

Description: § 205(d) Rate Filing: 2016-03-07 Schedule 26-B Shared Network Upgrades to be effective 5/6/2016.

Filed Date: 3/7/16.

Accession Number: 20160307-5203.

Comments Due: 5 p.m. ET 3/28/16.

Docket Numbers: ER16-1099-000.

Applicants: The United Illuminating Company.

Description: Notice of Cancellation of The United Illuminating Company of Service Agreement No. 13, Second Revised Tariff No. 4.

Filed Date: 3/7/16.

Accession Number: 20160307-5209.

Comments Due: 5 p.m. ET 3/28/16.

Docket Numbers: ER16-1101-000.

Applicants: NorthWestern Corporation.

Description: § 205(d) Rate Filing: SA 245 6th Rev—NITSA with Ash Grove Cement to be effective 7/1/2016.

Filed Date: 3/8/16.

Accession Number: 20160308-5085.

Comments Due: 5 p.m. ET 3/29/16.

Docket Numbers: ER16-1102-000.

Applicants: PJM Interconnection, L.L.C.

Description: Tariff Cancellation: Notice of Cancellations of Withdrawn Service Agreements to be effective 3/11/2011.

Filed Date: 3/8/16.

Accession Number: 20160308-5106.

Comments Due: 5 p.m. ET 3/29/16.

Docket Numbers: ER16-1104-000.

Applicants: PJM Interconnection, L.L.C.

Description: § 205(d) Rate Filing: Original Interim ISA No. 4414, Queue No. AA2-105 to be effective 2/10/2016.

Filed Date: 3/8/16.

Accession Number: 20160308-5152.

Comments Due: 5 p.m. ET 3/29/16.

Docket Numbers: ER16-1105-000.

Applicants: Hafslund Energy Trading LLC.

Description: Tariff Cancellation: Hafslund Filing to Cancel Market-Based rates to be effective 3/9/2016.

Filed Date: 3/8/16.

Accession Number: 20160308-5159.

Comments Due: 5 p.m. ET 3/29/16.

Docket Numbers: ER16-1107-000.

Applicants: Midcontinent Independent System Operator, Inc., ALLETE, Inc., Great River Energy.

Description: § 205(d) Rate Filing: 2016-03-08_ALLETE-GRE Zonal Agreement Filing to be effective 8/1/2013.

Filed Date: 3/8/16.

Accession Number: 20160308-5189.

Comments Due: 5 p.m. ET 3/29/16.

Docket Numbers: ER16-1108-000.

Applicants: Midcontinent Independent System Operator, Inc., ALLETE, Inc., Great River Energy.

Description: § 205(d) Rate Filing: 2016-03-08_SA 2905 ALLETE-GRE Zonal Agreement—WDS Filing to be effective 8/1/2013.

Filed Date: 3/8/16.

Accession Number: 20160308-5200.

Comments Due: 5 p.m. ET 3/29/16.

Take notice that the Commission received the following electric reliability filings:

Docket Numbers: RR16-3-000.

Applicants: North American Electric Reliability Corporation.

Description: Petition of North American Electric Reliability Corporation for approval of amendments to the Midwest Reliability Organization (MRO) Regional Reliability Standards Process Manual.

Filed Date: 3/7/16.

Accession Number: 20160307-5212.

Comments Due: 5 p.m. ET 3/28/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 8, 2016.
Nathaniel J. Davis, Sr.,
Deputy Secretary.

[FR Doc. 2016-05656 Filed 3-11-16; 8:45 am]

BILLING CODE 6717-01-P